DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Annual Capital Expenditures Survey (ACES).

Form Number(s): ACE-1(S), ACE-1(M), ACE-1(Long), and ACE-2.

Agency Approval Number: 0607-0782.

Type of Request: Revision of a currently approved collection.

Burden: 203,000 hours.

Number of Respondents: 61,000.

Avg. Hours Per Response: 3 hours and 20 minutes.

Needs and Uses: A major concern of economic policymakers is the adequacy of investment in plant and equipment. Data on the amount of business expenditures for new plant and equipment and measures of the stock of existing facilities are critical to evaluate productivity growth, the ability of U.S. business to compete with foreign business, changes in industrial capacity, and measures of overall economic performance. The ACES is the current source of comprehensive statistics on business investment in buildings and other structures, machinery, and equipment for private nonfarm businesses in the United States.

Major revisions from the previously approved collection are the collection of detailed types of structures and types of equipment data from employer businesses.

The plan for the continued survey is a basic annual survey that collects fixed assets and depreciation, sales and receipts, and total capital expenditures for new and used structures and equipment separately, from employer enterprises. This collection is intended to represent the capital expenditure activity of all employer firms and provide comprehensive control estimates of total capital expenditures for structures and equipment by industry.

All ACE-1 forms request sales and receipts information to calculate industry investment to sales ratios and to assist in verifying that consolidated company data are being reported. Assets and depreciation information collected assists in measuring changes in the Nation's capital stock estimates. As part of the basic survey, we also collect data annually from a small sample of nonemployer enterprises. Using Form ACE-2, the survey will request that nonemployer companies report current year capital expenditures data. This collection is intended to better represent total capital expenditures activity of all firms.

In conjunction with the basic survey is a supplemental survey conducted every five years beginning with the 1998 survey. The supplement will collect detailed information on expenditures by type of structure, and by type of equipment. This supplement is included with the basic survey only for employer companies. We collect detailed types of structures and equipment data in the same year due to reporting inconsistencies when attempting to collect the detailed data in separate years. The detailed structures data will provide a 5-year benchmark for estimates of value of new construction put in place. The detailed equipment will provide a periodic measure of expenditure by type of equipment and potentially serve as a benchmark for equipment produced and consumed as represented in the Bureau of Economic Analysis' (BEA) Input/Output accounts.

The ACES is an integral part of the Federal Government statistical program to improve and supplement ongoing statistical programs. Federal Government agencies, including the Census Bureau, use the data to improve and supplement ongoing statistical programs.

The Census Bureau uses the data to improve the quality of monthly economic indicators of investment. Specifically, the annual survey data and the supplement on types of structures will become a benchmark for monthly estimates of value of new construction put in place. The Value of New Construction Put in Place survey currently uses the ACES data to benchmark its industrial buildings data. Improvements in the economic indicators will contribute to improved quarterly estimates of gross domestic product from the Bureau of Economic Analysis (BEA).

The BEA uses the data to refine annual estimates of investment in structures and equipment in the national income and product accounts and to improve estimates of capital stocks. The Department of the Treasury uses the data in analysis of depreciation. The Bureau of Labor Statistics (BLS) uses the data to improve estimates of capital stocks for productivity analysis. The Federal Reserve Board (FRB) uses the data to improve estimates of investment indicators for monetary policy.

Affected Public: Business or other for-profit; Not-for-profit institutions.

Frequency: Annually.

Respondent's Obligation: Mandatory.

Legal Authority: Title 13 U.S.C., Section 182, 224, & 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: February 9, 2004.
Madeleine Clayton,
Management Analyst, Office of the Chief Information Officer.

[FR Doc. 04-3153 Filed 2-12-04; 8:45 am]

BILLING CODE 3510-07-P